DEPARTMENT OF TRANSPORTATION

Federal Aviation Administration

14 CFR Part 39

[Docket No. FAA-2012-0144; Directorate Identifier 2011-NM-152-AD; Amendment 39-17220; AD 2012-21-04]

RIN 2120-AA64

Airworthiness Directives; Airbus Airplanes

AGENCY: Federal Aviation Administration (FAA), Department of Transportation (DOT).

ACTION: Final rule.

SUMMARY: We are adopting a new airworthiness directive (AD) for all Airbus Model A300 series airplanes; Model A310 series airplanes; and Model A300 B4-600, B4-600R, and F4-600R series airplanes, and Model A300 C4-605R Variant F airplanes (collectively called Model A300-600 series airplanes). This AD was prompted by reports of cracked fuel pump canister hoods located in fuel tanks. This AD requires replacing any cracked hood halves of fuel pump canisters. We are issuing this AD to prevent any detached canister hood fragments/debris from being ingested into the fuel feed system, and becoming a potential source of ignition with consequent fire or explosion.

DATES: This AD becomes effective November 27, 2012.

The Director of the Federal Register approved the incorporation by reference of certain publications listed in this AD as of November 27, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 22, 2012 (77 FR 10409). That NPRM proposed to correct an unsafe condition for the specified products. The MCAI states:

This [European Aviation Safety Agency (EASA)] AD results from findings of cracked fuel pump canister hoods located in fuel tanks.

From the analyses, laboratory testing and examinations made so far, it is presently thought that vibration-induced fatigue can be identified as the root cause for the cracks found on in-service aeroplanes. However, current data does not yet permit to exclude some other potential contributing factors.

This condition, if not detected and corrected, could lead to detached canister hood fragments/debris to be ingested into the fuel feed system. Also, the metallic debris inside the fuel tank could result in a potential source of ignition and consequent fire or explosion.

For the reasons described above, this [EASA] AD requires repetitive [detailed] inspections of all fuel pump canister hood halves and their replacement if any [cracking] damage is found. This [EASA] AD also requires the inspection results to be reported.

This [EASA] AD is considered to be an interim action. The reports that are required by this [EASA] AD will enable the manufacturer to obtain better insight into the nature, cause, and extent of the fuel pump canister hood cracking, and eventually to develop final action to address the unsafe condition. Once final action has been identified, further AD actions could be considered.

You may obtain further information by examining the MCAI in the AD docket.

Comments

We gave the public the opportunity to participate in developing this AD. We have considered the comments received.

Request To Extend Reporting Time

FedEx requested that the time for submitting reports, proposed in the NPRM (77 FR 10409, February 22, 2012) as 30 days, be extended to 90 days, because it might not have immediate access to maintenance vendors' records of the completed tasks, and system-wide reporting can sometimes require longer times.

Although EASA AD 2011-0124, dated June 30, 2011, specifies a 30-day compliance time for submitting reports, we agree with the commenter's request to extend the compliance time for reporting because a delay will not compromise safety. We have changed paragraphs (j)(1) and (j)(2) of this final rule accordingly. This difference has been coordinated with EASA.

Request for Specific Contact Information for Reporting

FedEx requested that we provide specific information for submitting the reports proposed in the NPRM (77 FR 10409, February 22, 2012), including an email address, to facilitate reporting.

We agree with the commenter's request for the reason given, and have added that information in paragraph (j) of this final rule.

Request To Delay the Final Rule Effective Date and Extend the Compliance Time

UPS requested that the AD be effective after Airbus completes certifying the improved design for the fuel pump half hood, projected to be completed in late 2012. UPS also requested an initial compliance time of 36 months (versus the 30 months proposed in the NPRM (77 FR 10409, February 22, 2012)) to allow for purchasing and part lead time. UPS stated that these changes to the NPRM would enable a one-time through-the-fleet solution without the need for repetitive inspections.

We do not agree with the commenter's request for extending the compliance time. In developing an appropriate compliance time for this action, we considered not only the degree of urgency associated with addressing the subject unsafe condition, but the manufacturer's and EASA's recommendations for an appropriate compliance time, and the availability of required parts. We have not changed the AD in this regard.

Further, we do not agree with the request for delaying the AD. For continued operational safety, operators need to begin the inspections, and not delay the inspections until the part is certified. We will consider an alternative method of compliance (AMOC) when parts are available. Operators may request approval of an AMOC in accordance with paragraph (k)(1) of this final rule, if sufficient data are submitted to substantiate that the method would provide an acceptable level of safety. We have not changed the AD in this regard.

Airplane Models Added to This AD

We have determined that Model A300 B2-1A and A300 B4-601 airplanes were inadvertently omitted from the Applicability of the NPRM (77 FR 10409, February 22, 2012). We have added those models to the Applicability of this AD in paragraphs (c)(1) and (c)(3) respectively. However, none of the airplanes added to the Applicability of this AD are on the U.S. Register. Therefore, additional notice and opportunity for public comment before issuing this AD are unnecessary.

Explanation of Updated Credit Language

We have revised the heading and wording for paragraph (i) of this AD to provide appropriate credit for previous accomplishment of certain actions. This change does not affect the intent of that paragraph.

Conclusion

We reviewed the available data, including the comments received, and determined that air safety and the public interest require adopting the AD with the changes described previously, and minor editorial changes. We have determined that these changes:

• Are consistent with the intent that was proposed in the NPRM (77 FR 10409, February 22, 2012) for correcting the unsafe condition; and

• Do not add any additional burden upon the public than was already proposed in the NPRM (77 FR 10409, February 22, 2012).

Costs of Compliance

We estimate that this AD will affect about 221 products of U.S. registry. We also estimate that it will take up to 12 work-hours per product to comply with the basic requirements of this AD. The average labor rate is $85 per work-hour. Based on these figures, we estimate the cost of this AD to the U.S. operators to be $225,420, or $1,020 per product.

In addition, we estimate that any necessary follow-on actions would take about 1 work-hour. We have no way of determining the number of products that may need these actions.

We have received no definitive data that would enable us to provide cost estimates for certain parts required for the on-condition actions (replacing fuel pump canister hood halves) specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 10409, February 22, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-21-04 Airbus: Amendment 39-17220. Docket No. FAA-2012-0144; Directorate Identifier 2011-NM-152-AD.

(a) Effective Date

This airworthiness directive (AD) becomes effective November 27, 2012.

(b) Affected ADs

None.

(c) Applicability

This AD applies to the airplanes identified in paragraphs (c)(1), (c)(2), and (c)(3) of this AD, certificated in any category, all certificated models, all serial numbers.

(1) Airbus Model A300 B2-1A, B2-1C, B2K-3C, B2-203, B4-2C, B4-103, and B4-203 airplanes.

(2) Airbus Model A310-203, -204, -221, -222, -304, -322, -324, and -325 airplanes.

(3) Airbus Model A300 B4-601, B4-603, B4-620, and B4-622 airplanes, Model A300 B4-605R and B4-622R airplanes, Model A300 F4-605R and F4-622R airplanes, and Model A300 C4-605R Variant F airplanes.

(d) Subject

Air Transport Association (ATA) of America Code 28: Fuel.

(e) Reason

This AD was prompted by reports of cracked fuel pump canister hoods located in fuel tanks. We are issuing this AD to prevent any detached canister hood fragments/debris from being ingested into the fuel feed system, and becoming a potential source of ignition with consequent fire or explosion.

(f) Compliance

You are responsible for having the actions required by this AD performed within the compliance times specified, unless the actions have already been done.

(g) Initial Inspection and Replacement

Within 30 months after the effective date of this AD, do a detailed inspection for cracking of the fuel pump canister hood halves installed on all fuel pump canisters having part numbers (P/N) 2052C11, 2052C12, and C93R51-601, in accordance with the Accomplishment Instructions of the service bulletin specified in paragraph (g)(1), (g)(2), or (g)(3) of this AD, as applicable. If any crack is found on any fuel pump canister hood half during any inspection, before further flight, replace the fuel pump canister hood half, in accordance with the Accomplishment Instructions of the service bulletin specified in paragraph (g)(1), (g)(2), or (g)(3) of this AD, as applicable.

(1) For Model A300 series airplanes: Airbus Mandatory Service Bulletin A300-28-0089, Revision 01, including Inspection Findings—Reporting Sheet, dated April 15, 2011.

(2) For Model A300-600 series airplanes: Airbus Mandatory Service Bulletin A300-28-6106, Revision 01, including Inspection Findings—Reporting Sheet, dated April 15, 2011.

(3) For Model A310 series airplanes: Airbus Mandatory Service Bulletin A310-28-2173, Revision 01, including Inspection Findings—Reporting Sheet, dated April 15, 2011.

(h) Repetitive Inspections

Within 30 months after accomplishing the actions specified in paragraph (g) of this AD, and thereafter at intervals not to exceed 30 months, repeat the detailed inspection specified in paragraph (g) of this AD.

(i) Credit for Previous Actions

This paragraph provides credit for the actions required by paragraph (g) of this AD, if those actions were performed before the effective date of this AD using the Airbus Mandatory Service Bulletins specified in paragraph (i)(1), (i)(2), or (i)(3) of this AD, which are not incorporated by reference in this AD.

(1) Airbus Mandatory Service Bulletin A300-28-0089, dated January 13, 2011.

(2) Airbus Mandatory Service Bulletin A300-28-6106, dated January 13, 2011.

(3) Airbus Mandatory Service Bulletin A310-28-2173, dated January 13, 2011.

(j) Reporting to Airbus

Submit reports of the findings (both positive and negative) of the inspections required by paragraphs (g) and (h) of this AD to Airbus at the applicable time specified in paragraph (j)(1) or (j)(2) of this AD, using the form “Inspection Findings—Reporting Sheet” provided in the service bulletin identified in paragraph (g)(1), (g)(2), or (g)(3) of this AD, as applicable. Submit information to Airbus, SDC32 Technical Data and Documentation Services, fax (+33) 5 61 93 28 06, email sb.reporting@airbus.com, or via the operator's Resident Customer Support Office.

(1) If the inspection was done on or after the effective date of this AD: Submit the report within 90 days after the inspection.

(2) If the inspection was done before the effective date of this AD: Submit the report within 90 days after the effective date of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to MCAI European Aviation Safety Agency Airworthiness Directive 2011-0124, dated June 30, 2011; and the Airbus mandatory service bulletins identified in paragraphs (l)(1), (l)(2), and (l)(3) of this AD; for related information.

(1) Airbus Mandatory Service Bulletin A300-28-0089, Revision 01, including Inspection Findings—Reporting Sheet, dated April 15, 2011.

(2) Airbus Mandatory Service Bulletin A300-28-6106, Revision 01, including Inspection Findings—Reporting Sheet, dated April 15, 2011.

(3) Airbus Mandatory Service Bulletin A310-28-2173, Revision 01, including Inspection Findings—Reporting Sheet, dated April 15, 2011.

(m) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A300-28-0089, Revision 01, including Inspection Findings—Reporting Sheet, dated April 15, 2011.

(ii) Airbus Mandatory Service Bulletin A300-28-6106, Revision 01, including Inspection Findings—Reporting Sheet, dated April 15, 2011.

(iii) Airbus Mandatory Service Bulletin A310-28-2173, Revision 01, including Inspection Findings—Reporting Sheet, dated April 15, 2011.

(3) For Airbus service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal-register/cfr/ibr-locations.html.

Issued in Renton, Washington, on October 5, 2012.
Ali Bahrami,
Manager, Transport Airplane Directorate, Aircraft Certification Service.

[FR Doc. 2012-25675 Filed 10-22-12; 8:45 am]

BILLING CODE 4910-13-P